DEPARTMENT OF COMMERCE

International Trade Administration

[A-570-890]

Notice of Postponement of Preliminary Determination of Antidumping Duty Investigation of Wooden Bedroom Furniture from the People's Republic of China

AGENCY: Import Administration, International Trade Administration, Department of Commerce.

ACTION: Notice of Postponement of Preliminary Determination of Antidumping Duty Investigation.

EFFECTIVE DATE: April 13, 2004.

FOR FURTHER INFORMATION CONTACT: Catherine Bertrand or Robert Bolling, Import Administration, International Trade Administration, U.S. Department of Commerce, 14th Street and Constitution Avenue, N.W., Washington, DC 20230; telephone: (202) 482-3207, (202) 482-3434, respectively.

SUMMARY: The Department of Commerce (“Department”) is postponing the preliminary determination in the antidumping duty investigation of wooden bedroom furniture from the People's Republic of China (“PRC”) from April 28, 2004, until no later than June 17, 2004. This postponement is made pursuant to section 733(c)(1)(A) of the Tariff Act of 1930, as amended (“the Act”).

SUPPLEMENTARY INFORMATION:

Postponement of Preliminary Determination

On December 17, 2003, the Department published the initiation of the antidumping duty investigation of imports of wooden bedroom furniture from the PRC. See Initiation of Antidumping Duty Investigation: Wooden Bedroom Furniture from the People's Republic of China, 68 FR 70228 (December 17, 2003). The notice of initiation stated that we would make our preliminary determination for this antidumping duty investigation no later than 140 days after the date of issuance of the initiation.

On March 31, 2004, Petitioners¹ made a timely request pursuant to 19 CFR §351.205(e) for a fifty-day postponement of the preliminary determination, or until June 17, 2004. Petitioners requested postponement of the preliminary determination because it believes additional time is necessary to allow Petitioners to review the responses to the supplemental questionnaires and submit comments to the Department, and also to allow the Department time to analyze thoroughly the respondents' data and to seek additional information, if necessary.

¹ Petitioners are: American Furniture Manufacturers Committee for Legal Trade and its individual members; the Cabinet Makers, Millmen and Industrial Carpenters Local 721; UBC Southern Council of Industrial Workers Local Union 2305; United Steel Workers of America Local 193U; Carpenters Industrial Union Local 2093; and Teamsters, Chauffeurs, Warehouseman and Helpers Local 991.

For the reasons identified by the Petitioners, and because there are no compelling reasons to deny the request, we are postponing the preliminary determination under section 733(c)(1) of the Act. Therefore, the preliminary determination is now due no later than June 17, 2004. The deadline for the final determination will continue to be 75 days after the date of the preliminary determination.

This notice is issued and published pursuant to sections 733(f) and 777(i) of the Act.

Dated: April 6, 2004.
James J. Jochum,
Assistant Secretary for Import Administration.

[FR Doc. 04-8374 Filed 4-12-04; 8:45 am]

BILLING CODE 3510-DS-S